DEPARTMENT OF THE TREASURY

Office of the Secretary

31 CFR Part 1

RIN 1505-AC31

Privacy Act of 1974; Implementation

AGENCY: Departmental Offices, Treasury.

ACTION: Final rule.

SUMMARY: In accordance with the Privacy Act of 1974, the Department of the Treasury gives notice of an amendment to update its Privacy Act regulations to add an exemption from certain provisions of the Privacy Act for a system of records related to the Office of Civil Rights and Diversity.

DATES: Effective date: January 11, 2012.

FOR FURTHER INFORMATION CONTACT: Mariam G. Harvey, Department of the Treasury, 1500 Pennsylvania Avenue NW., Washington, DC 20220, at (202) 622-0316, (202) 622-0367 (fax), or via electronic mail at ocrd.comments@do.treas.gov.

SUPPLEMENTARY INFORMATION: The Departmental Offices published a system of records notice on September 8, 2011, at 76 FR 55737, establishing a new system of records entitled “Treasury .013—Department of the Treasury Civil Rights Complaints and Compliance Review Files.”

On September 9, 2011, the Department also published, at 76 FR 55839, a proposed rule that would amend 31 CFR 1.36(g)(1)(i). The proposed rule would exempt the new system of records (Treasury .013) from certain provisions of the Privacy Act pursuant to 5 U.S.C. 552a(k)(2).

The proposed rule requested that the public submit comments to the Department of the Treasury, Office of Civil Rights and Diversity and no comments were received. Accordingly, the Department is hereby giving notice that the system of records entitled “Treasury .013—Department of the Treasury Civil Rights Complaints and Compliance Review Files” is exempt from certain provisions of the Privacy Act, pursuant to 5 U.S.C. 552a(k)(2) as set forth in the proposed rule.

This final rule is not a “significant regulatory action” under Executive Order 12866.

Pursuant to the requirements of the Regulatory Flexibility Act (RFA), 5 U.S.C. 601-612, it is hereby certified that this rule will not have significant economic impact on a substantial number of small entities. This certification is based on the fact that the final rule affects individuals and not small entities. The term “small entity” is defined to have the same meaning as the terms “small business,” “small organization,” and “small governmental jurisdiction,” as defined in the RFA.

As authorized by 5 U.S.C. 553(d)(3), the Department finds that good cause exists for dispensing with the 30-day delay in the effective date of this rule. These regulations exempt certain investigative records maintained by the Department from notification, access, and amendment of a record. In order to protect the confidentiality of such investigatory records the Department finds that it is in the public interest to make these regulations effective upon publication.

List of Subjects in 31 CFR Part 1

Privacy.

Part 1, Subpart C of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. In § 1.36, redesignate paragraphs (g)(1)(i) through (xiii) as (g)(1)(ii) through (xiv), respectively, and add new paragraph (g)(1)(i) to read as follows:

§ 1.36 Systems exempt in whole or in part from provisions of 5 U.S.C. 552a and this part.

* * * * *

(g) * * *

(1) * * *

(i) Treasury:

Number | System name
Treasury .013 | Department of the Treasury Civil Rights Complaints and Compliance Review Files.

* * * * *

Dated: December 22, 2011.
Melissa Hartman,
Deputy Assistant Secretary for Privacy, Transparency, and Records.

[FR Doc. 2012-338 Filed 1-10-12; 8:45 am]

BILLING CODE 4810-25-P